DEPARTMENT OF HEALTH AND HUMAN SERVICES

Meeting of the Tick-Borne Disease Working Group

AGENCY: Office of HIV/AIDS and Infectious Disease Policy, Office of the Assistant Secretary for Health, Office of the Secretary, Department of Health and Human Services.

ACTION: Notice.

SUMMARY: The Department of Health and Human Services (HHS) announces the fifth in-person meeting of the Tick-Borne Disease Working Group (Working Group) on May 15-16, 2018, from 9:00 a.m. to 7:45 p.m. Eastern Time on May 15 and from 9:00 a.m. to 5:30 p.m. Eastern Time on May 16. For this fifth meeting, the Working Group will provide an overview of the report to the HHS Secretary and Congress and discuss what should be included in the report from the work of the six Subcommittee Working Groups that were established on December 12, 2017. These subcommittees were established to assist the Working Group with the development of the report to Congress and the HHS Secretary as required by the 21st Century Cures Act. The subcommittees are:

1. Disease Vectors, Surveillance and Prevention (includes epidemiology of tick-borne diseases);

2. Pathogenesis, Transmission, and Treatment;

3. Testing and Diagnostics (including laboratory-based diagnoses and clinical-diagnoses);

4. Access to Care Services and Support to Patients;

5. Vaccine and Therapeutics; and

6. Other Tick-Borne Diseases and Co-infections.

DATES: May 15, 2018, from 9:00 a.m. to 7:45 p.m. Eastern Time and May 16, 2018, from 9:00 a.m. to 5:30 p.m. Eastern Time.

ADDRESSES: Hilton Crystal City Conference Center at Washington Reagan National Airport, 2399 Jefferson Davis Highway, Arlington, VA 22202. Members of the public may also attend the meeting via webcast. Instructions for attending the meeting via webcast will be posted one week prior to the meeting at: https://www.hhs.gov/ash/advisory-committees/tickbornedisease/index.html.

FOR FURTHER INFORMATION CONTACT: James Berger, Office of HIV/AIDS and Infectious Disease Policy, Office of the Assistant Secretary for Health, Department of Health and Human Services; via email at tickbornedisease@hhs.gov or by phone at 202-795-7697.

SUPPLEMENTARY INFORMATION:

In-person attendance at the meeting is limited to space available; therefore, preregistration for public members is advisable and can be accomplished by registering at http://events.r20.constantcontact.com/register/event?llr=zz7zptzab&oeidk=a07edrodfu088eae0cf by Thursday, May 10, 2018. On the day of the meeting, seating will be provided first to persons who have preregistered. People who have not preregistered will be accommodated on a first come, first served basis if additional seats are still available 10 minutes before the meeting start. Non-U.S. citizens who plan to attend in person are required to provide additional information and must notify the Working Group support staff via email at tickbornedisease@hhs.gov before April 30, 2018.

The Working Group invites public comment on issues related to the Working Group's charge. It may be provided in-person at the meeting or in writing. In-person comments will occur from 9:05 a.m. to 10:05 a.m. on May 16, 2018. Persons who wish to provide public comment in person should review directions at https://www.hhs.gov/ash/advisory-committees/tickbornedisease/meetings/index.html before submitting a request to do so via email at tickbornedisease@hhs.gov. Requests to provide in-person comment are due on or before May 10, 2018. In-person comments will be limited to three minutes each to accommodate as many speakers as possible. If more requests are received than can be accommodated, speakers will be randomly selected. The nature of the comments will not be considered in making this selection. Public comments may also be provided in writing. Individuals who would like to provide written comment should review directions at https://www.hhs.gov/ash/advisory-committees/tickbornedisease/meetings/index.html before sending their comments to tickbornedisease@hhs.gov on or before May 10, 2018.

Background and Authority: The Tick-Borne Disease Working Group was established on August 10, 2017, in accordance with section 2062 of the 21st Century Cures Act, and the Federal Advisory Committee Act, 5 U.S.C. App., as amended, to provide expertise and review all HHS efforts related to tick-borne diseases to help ensure interagency coordination and minimize overlap, examine research priorities, and identify and address unmet needs. In addition, the Working Group will report to the Secretary and Congress on their findings and any recommendations for the federal response to tick-borne disease prevention, treatment and research, and addressing gaps in those areas.

Dated: April 19, 2018.
James Berger,
Alternate Designated Federal Officer, Office of HIV/AIDS and Infectious Disease Policy, Tick-Borne Disease Working Group.

[FR Doc. 2018-08786 Filed 4-25-18; 8:45 am]

BILLING CODE 4150-28-P